INTERNATIONAL TRADE COMMISSION

[Investigation No. Chile FTA-103-019]

Probable Economic Effect of Certain Modifications to the United States-Chile Free Trade Agreement Rules of Origin

AGENCY: United States International Trade Commission.

ACTION: Institution of investigation and request for written submissions.

SUMMARY: Following receipt of a request on February 11, 2008, from the United States Trade Representative (USTR) under authority delegated by the President and pursuant to section 103 of the United States-Chile Free Trade Agreement Implementation Act (19 U.S.C. 3805 note), the Commission instituted investigation No. Chile FTA-103-019, Probable Economic Effect of Certain Modifications to the United States-Chile Free Trade Agreement Rules of Origin.

DATES: February 11, 2008: Date of receipt of request from the USTR. March 6, 2008: Date of institution of investigation. May 1, 2008: Deadline for written statements. October 31, 2008: Transmittal of report to the USTR.

ADDRESSES: All Commission offices, including the Commission's hearing rooms, are located in the United States International Trade Commission Building, 500 E Street SW., Washington, DC. All written submissions, statements, and briefs, should be addressed to the Secretary, United States International Trade Commission, 500 E Street SW., Washington, DC 20436.

FOR FURTHER INFORMATION CONTACT: Information may be obtained from Joanna Bonarriva, Office of Industries (202-205-3312, joanna.bonarriva@usitc.gov) or Linda White, Office of Industries (202-205-3427, linda.white@usitc.gov) for information specific to this investigation; for information on the legal aspects, contact William Gearhart of the Commission's Office of the General Counsel (202-205-3091 or william.gearhart@usitc.gov). The media should contact Margaret O'Laughlin, Office of External Relations (202-205-1819 or margaret.olaughlin@usitc.gov). Hearing impaired individuals are advised that information on this matter can be obtained by contacting the TDD terminal on (202-205-1810). General information concerning the Commission may also be obtained by accessing its internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

SUPPLEMENTARY INFORMATION: According to the USTR's letter, U.S. negotiators have recently reached agreement in principle with representatives of the government of Chile on the proposed modifications to Annex 4.1 of the United States-Chile Free Trade Agreement (U.S.-Chile FTA) contained in the document attached to the letter. Chapter 4 and Annex 4.1 of the U.S.-Chile FTA set out the rules of origin for applying the tariff provisions of the FTA to trade in goods. Section 202(o) of the United States-Chile Free Trade Agreement Implementation Act (the Act) authorizes the President, subject to the consultation and layover requirements of section 103 of the Act, to proclaim such modifications to the rules as may from time to time be agreed to by both countries. One of the requirements set out in section 103 of the Act is that the President obtain advice from the United States International Trade Commission.

The USTR has requested that the Commission provide advice on the probable economic effect of the proposed modifications on U.S. trade under the U.S.-Chile FTA and on domestic industries. A complete list of the products and the proposed modifications is available from the Office of the Secretary to the Commission or by accessing the electronic version of this notice at the Commission's Internet site (http://www.usitc.gov). The current U.S. rules of origin can be found in General Note 26 of the 2008 Harmonized Tariff Schedule of the United States (see “General Notes” link at http://hotdocs.usitc.gov/tariff_chapters_current/toc.html). As requested, the Commission will forward its advice to the USTR by October 31, 2008, and will issue a public version of its report (with any confidential business information deleted) as soon as possible thereafter.

Written Submissions: In lieu of a public hearing, interested parties are invited to submit written statements concerning the matters to be addressed by the Commission in this investigation. Submissions should be addressed to the Secretary, United States International Trade Commission, 500 E Street SW., Washington, DC 20436. To be assured of consideration by the Commission, written statements should be submitted to the Commission at the earliest practical date and should be received no later than the close of business on May 1, 2008. All written submissions must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, from which the confidential business information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. However, the Commission will not publish such confidential business information in the public version of its report in a manner that would reveal the operations of the firm supplying the information.

Issued: March 10, 2008.
By order of the Commission.
Marilyn R. Abbott,
Secretary to the Commission.

[FR Doc. E8-5072 Filed 3-13-08; 8:45 am]

BILLING CODE 7020-02-P